DEPARTMENT OF LABOR

Employment and Training Administration

Notice of Availability of Funds and Funding Opportunity Announcement for YouthBuild

AGENCY: Employment and Training Administration, Labor.

ACTION: Funding Opportunity Announcement (FOA). Funding Opportunity Number: FOA-ETA-15-05

SUMMARY: The Employment and Training Administration (ETA), U.S. Department of Labor (DOL or Department), announces the availability of approximately $76 million in grant funds authorized by the YouthBuild provisions of the Workforce Innovation and Opportunity Act (WIOA) (Pub. L. 113-128). DOL will award grants through a competitive process to organizations to oversee the provision of education, occupational skills training, and employment services to disadvantaged youth in their communities while performing meaningful work and service to their communities. In Fiscal Year (FY) 2015, DOL hopes to serve approximately 4,950 participants during the grant period of performance, with approximately 76 projects awarded across the country. Individual grants will range from $700,000 to $1.1 million and require an exact 25 percent match from applicants, using sources other than federal funding. The grant period of performance for this FOA is 40 months, including a four-month planning period.

The complete FOA and any subsequent FOA amendments in connection with this solicitation are described in further detail on ETA's Web site at http://www.doleta.gov/grants/ or on http://www.grants.gov. The Web sites provide application information, eligibility requirements, review and selection procedures, and other program requirements governing this solicitation.

DATES: The closing date for receipt of applications under this announcement is June 5, 2015. Applications must be received no later than 4:00:00 p.m. Eastern Time.

FOR FURTHER INFORMATION CONTACT: Kia Mason, 200 Constitution Avenue NW., Room N-4716, Washington, DC 20210; Email: mason.kia@dol.gov.

The Grant Officer for this FOA is Steven A. Rietzke.

Signed April 6, 2015 in Washington, DC.
Eric D. Luetkenhaus,
Grant Officer/Division Chief, Employment and Training Administration.

[FR Doc. 2015-08209 Filed 4-9-15; 8:45 am]

BILLING CODE 4510-FT-P